DEPARTMENT OF THE INTERIOR

Bureau of Land Management

[CO-130]

Emergency Closure

AGENCY: Bureau of Land Management, Interior.

ACTION: Closure notice.

SUMMARY: Under the authority of 43 CFR 8364.1 and 43 CFR 9268.3(d) notice is hereby given that an emergency closure to the discharge or use of a firearm or dangerous weapons for the purpose of target shooting is in effect, as of the publication date of this notice, on public lands administered by the Grand Junction Field Office of the Bureau of Land Management, as follows:

This order is put into effect to protect persons, property and resources located in this area from person(s) engaged in target shooting with firearms or dangerous weapons. Dangerous weapons include, but are not limited to: rifles, pistols, air guns, paint ball guns, bow and arrow, slingshot or any mechanical device that propels a projectile. This emergency order does not prohibit the discharge of firearms or dangerous weapons while persons are engaged in bonafide hunting activities during established hunting seasons and are properly licensed for these activities.

DATES: This closure is effective upon publication and expires upon the passage of one year. During the one year period BLM Grand Junction FO will consider alternatives for the relocation of target shooting to a nearby safe location. An Environmental analysis will be prepared describing the effects of actions designed to resolve the issues.

After publication of this notice, two display signs will be erected at the closure sites to inform the public of the restrictions and direct them to appropriate safe locations to target shoot. In addition the perimeters of the closure areas will be signed. This information will also be available at the BLM Grand Junction Field Office and on line at our website.

Under the authority of 43 CFR 8364.1 and 43 CFR 9268.3(d), this closure is established to prohibit the discharge or use of dangerous weapons on the following public lands administered by the Grand Junction Field Office, Bureau of Land Management.

SE1/4 sec. 19; SW1/4 SW1/4 sec. 20; SE1/4 NW1/4, SW1/4 NE1/4, NE1/4SW1/4, NW1/4 SW1/4 sec. 30, T1S, R2E, Ute Meridian, Mesa County, Colorado.

FOR FURTHER INFORMATION CONTACT; Perry McCoy, BLM Ranger, Grand Junction Field Office, Bureau of Land Management, 2815 H. Rd., Grand Junction, CO 81506, telephone (970) 244-3000.

SUPPLEMENTARY INFORMATION: The affected area has been a popular location for target shooting in the Grand Valley for decades. BLM has received numerous complaints from neighboring land owners regarding indiscriminate use of fire arms in the area. In the past five years many new residences have been constructed along the urban interface zone bordering BLM managed lands in this area. Several near misses of neighbors have been reported. The Federal Aviation Administration maintains an aircraft communications facility in the affected zone. This installation handles aircraft communications for civilian, commercial and military air traffic in western Colorado. The facility has been vandalized and struck by bullets on a regular basis. Damage to this facility could interfere with air traffic and be a threat to national security. Violations of this closure are punishable by a fine of not more than $100,000 and/or imprisonment of not more than 12 months as provided in 43 CFR 8360, 43 CFR 9268.3(d)(2), and 18 U.S.C. 3571.

Dated: October 4, 2004.
Raul Morales,
Associate Field Manager.

[FR Doc. 04-27386 Filed 12-14-04; 8:45 am]

BILLING CODE 4310-JB-P